DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date: September 16, 2008 9 a.m.-3 p.m.; September 17, 2008 10 a.m.-12 p.m.

Place: Hubert H. Humphrey Building, 200 Independence Avenue, SW., Room 505A, Washington, DC 20201.

Status: Open.

Purpose: At this meeting the Committee will hear presentations and hold discussions on several health data policy topics. On the morning of the first day the Committee will hear updates from the Department relating to Health HIT workforce needs, electronic health records, and personal health records; from the Center for Medicare and Medicaid Services and the Office of the National Coordinator. They will also work on a letter to the HHS Secretary regarding standards and security for e-prescribing standards. In the afternoon there will be a speaker on examples of technology for personal health records and an update from the National Conference for State Legislatures regarding HIT implementation in states.

On the morning of the second day the Committee will discuss subcommittee work. There will also be an update from NCHS Board of Scientific Counselors. In addition there will be a discussion of the NCVHS 60th Anniversary celebration and 21st Century Health Statistics update.

The times shown above are for the full Committee meeting. Subcommittee breakout sessions can be scheduled for late in the afternoon of the first day and second day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: August 26, 2008.
James Scanlon,
Deputy Assistant Secretary for Science and Data Policy, Office of the Assistant Secretary for Planning and Evaluation.

[FR Doc. E8-20239 Filed 8-29-08; 8:45 am]

BILLING CODE 4151-05-P